DEPARTMENT OF DEFENSE

Office of the Secretary

[Docket ID: DoD-2013-OS-0232]

Notice of Availability (NOA) of an Environmental Assessment (EA) for the Temporary Storage of Wheeled Tactical Vehicles at Defense Supply Center Richmond, Virginia

AGENCY: Defense Logistics Agency, DoD.

ACTION: Notice of Availability (NOA) of an Environmental Assessment (EA) for the Temporary Storage of Wheeled Tactical Vehicles at Defense Supply Center Richmond, Virginia.

SUMMARY: The Defense Logistics Agency (DLA) announces the availability of an environmental assessment (EA) for the potential environmental impacts associated with the proposed action to temporarily store wheeled tactical vehicles at Defense Supply Center Richmond, Virginia. The EA has been prepared as required under the National Environmental Policy Act (NEPA) (1969). In addition, the EA complies with DLA Regulation 1000.22. DLA has determined that the proposed action would not have a significant impact on the human environment within the context of NEPA. Therefore, the preparation of an environmental impact statement is not required.

DATES: The public comment period will end 30 days after publication of this NOA in the Federal Register. Comments received by the end of the 30-day period will be considered when preparing the final version of the document. The EA is available electronically at http://www.dla.mil/Documents/WTV_DEA_12022013.pdf.

ADDRESSES: You may submit comments to one of the following:

• Federal eRulemaking Portal: http://www.regulations.gov. Follow the instructions for submitting comments.

• Mail: Federal Docket Management System Office, 4800 Mark Center Drive, East Tower, 2nd floor, Suite 02G09, Alexandria, VA 22350-3100.

FOR FURTHER INFORMATION CONTACT: Ann Engelberger at (703) 767-0705 during normal business hours Monday through Friday, from 8:00 a.m. to 4:30 p.m. (EST) or by email: Ann.Engelberger@dla.mil.

Dated: December 20, 2013.
Aaron Siegel,
Alternate OSD Federal Register Liaison Officer, Department of Defense.

[FR Doc. 2013-30868 Filed 12-26-13; 8:45 am]

BILLING CODE 5001-06-P